DEPARTMENT OF HOMELAND SECURITY

Federal Emergency Management Agency

[Docket ID FEMA-2013-0028]

Assistance to Firefighters Grant Program

AGENCY: Federal Emergency Management Agency, DHS.

ACTION: Notice of availability of grant application and application deadline.

SUMMARY: This Notice describes the grant application process and the criteria for awarding grants in the fiscal year (FY) 2013 AFG Program and announces the grant application deadline. It explains the differences, if any, between these guidelines and those recommended by representatives of the Nation's fire service leadership during the annual Criteria Development meeting, which was held December 13-14, 2012. The application period for the FY 2013 AFG Program year will be held November 4, 2013, through December 6, 2013, and will be announced on the AFG Web site (www.fema.gov/firegrants), www.grants.gov, and U.S. Fire Administration Web site (www.usfa.fema.gov).

The AFG Program makes grants directly to fire departments, nonaffiliated emergency medical services (EMS) organizations, and state fire training academies for the purpose of enhancing the abilities of first responders to protect the health and safety of the public as well as that of first-responder personnel facing fire and fire-related hazards. It is anticipated that approximately 10,000 to 15,000 applications will be submitted electronically, using the online application submission form and process available at https://portal.fema.gov. Before the application period, the “FY 2013 AFG Funding Opportunity Announcement” will be published on the AFG Web site (www.fema.gov/firegrants). Additional information to assist applicants will be provided on the AFG Web site, including a list of frequently asked questions, a “Get Ready Guide,” and a “Quick Reference Guide,” and a list of “Frequently Asked Questions (FAQs).” In addition, the authorizing statute requires that a minimum of 10 percent of available funds be expended for fire prevention and safety grants to be made directly to local fire departments and to local, regional, State, or national entities recognized for their expertise in the fields of fire prevention and firefighter safety research and development.

Authority: 15 U.S.C. 2229.

DATES: Grant applications for the Assistance to Firefighters Grants will be accepted electronically at https://portal.fema.gov, from November 4, 2013, beginning at 8 a.m. Eastern Time, and will conclude on December 6, 2013, at 5 p.m., Eastern Time.

ADDRESSES: Assistance to Firefighters Grants Branch, DHS/FEMA, 800 K Street NW., MS 3620, Washington, DC 20472-3620.

FOR FURTHER INFORMATION CONTACT: Catherine Patterson, Chief, Assistance to Firefighters Grant Branch, 1-866-274-0960.

SUPPLEMENTARY INFORMATION: The purpose of the Assistance to Firefighters Grant (AFG) Program is to provide grants directly to fire departments, nonaffiliated emergency medical services (EMS) organizations, and State Fire Training Academies (SFTAs) to enhance their ability to protect the health and safety of the public, as well as that of first-responder personnel, with respect to fire and fire-related hazards. The authorizing statute requires that each year DHS publish in the Federal Register the guidelines that describe the application process and the criteria for grant awards.

It is anticipated that approximately 10,000 to 15,000 applications for AFG funding will be submitted electronically, using the application submission form and process available at the AFG e-Grant application portal: https://portal.fema.gov. Specific information about the submission of grant applications can be found in the “FY 2013 Assistance to Firefighters Grant (AFG) Funding Opportunity Announcement,” which is available for download at www.fema.gov/firegrants under Docket ID FEMA-2013-0028.

Paper applications will not be accepted due to the inherent delays with processing them and because they lack the applicant “help” features that are built into the electronic application.

Appropriations

Congress appropriated $320,330,025 for the FY 2013 AFG pursuant to the Department of Homeland Security Appropriations Act, 2013, Public Law 113-6. From this amount, $288,828,075 will be made available for AFG awards. Funds appropriated for the FY 2013 AFG will be available for obligation and award until September 30, 2014.

From the approximately 10,000 to 15,000 applications that will be submitted to request assistance, FEMA anticipates that it will be able to award approximately 4,000 grants with the grant funding available.

Congress directed the Department of Homeland Security (DHS) to administer the appropriations with the following requirements:

• Career (fire department): Not less than 25 percent of available grant funds.

• Volunteer (fire department): Not less than 25 percent of available grant funds.

• Combination (fire department) and departments using paid-on-call firefighting personnel—not less than 25 percent of available grant funds.

• Open Competition: Career, volunteer, and combination fire departments and fire departments using paid-on-call firefighting personnel—not less than 10 percent of available grant funds awarded.

• Emergency Medical Services Providers: Fire departments and nonaffiliated EMS organizations; not less than 3.5 percent of available grants funds awarded, with nonaffiliated EMS providers receiving no more than 2 percent of the total available grant funds.

• State Fire Training Academies (SFTAs): No more than 3 percent of available grant funds shall be collectively awarded to state fire training academy applicants, with a maximum of $500,000 to be awarded per applicant.

• Vehicles: Not more than 25 percent of available grant funds may be used for the purchase of vehicles; 10 percent of the total vehicle funds will be dedicated to fund ambulances. The allocation of funding will be distributed as equally as possible among urban, suburban, and rural community applicants. The remaining Vehicle Acquisition funds will be awarded competitively without regard to community classification.

• Micro Grants (MGs): This is a voluntary funding limitation choice made by the applicant for requests submitted for Operations and Safety Grant Component Program; it is not an additional funding opportunity. MGs are awards that have a federal participation (share) that does not exceed $25,000. Only fire departments and nonaffiliated EMS organizations are eligible to choose MGs, and the only eligible MG activities are Training, Equipment, PPE, Wellness and Fitness, and Modification to Facilities. Applicants that select Micro Grants as a funding opportunity may receive additional consideration for award. If an applicant selects MGs in their application, they will be limited in the total amount of funding their organization can be awarded; if they are requesting funding in excess of $25,000 federal participation, they should not select Micro Grants.

Background of the AFG Program

DHS awards the grants on a competitive basis to the applicants that best address the AFG Program's priorities and provide the most compelling justification. Applications that best address the Program's priorities will be reviewed by a panel composed of fire service personnel.

Award Criteria

All applications for grants will be prepared and submitted through the AFG e-Grant application portal (https://portal.fema.gov). DHS again will have a separate application period devoted solely to FP&S Grants, which is projected to occur in the fall or winter of 2013.

DHS awards the grants on a competitive basis to the applicants that best address the AFG Program's priorities and provide the most compelling justification. Applications that best address the Program's priorities will be reviewed by a panel composed of fire service personnel. The panels will review the applications and score them using the following criteria areas:

• Proposed project and the project budget

• Cost benefits

• Financial need

• The extent to which the grant would enhance daily operations

• Evaluation by the Peer Reviewers relative to the critical infrastructure the applicant protects

• For joint/regional host applications only, a list of all the participating eligible organizations and ineligible benefitting organizations.

• Critical infrastructure systems or key resources that, if attacked, would result in catastrophic loss of life or catastrophic economic loss. Critical infrastructure includes the following:

○ Public water

○ Power systems

○ Major business centers

○ Chemical facilities

○ Nuclear power plants

○ Major rail and highway bridges

○ Petroleum and/or natural gas transmission pipelines

○ Storage facilities (e.g., chemical storage)

○ Telecommunications facilities

○ Facilities that support large public gatherings, such as sporting events or concerts

Eligible Applicants

The following organizations are eligible to apply for and receive an AFG award of direct financial assistance:

• Fire departments and nonaffiliated EMS organizations operating in any of the 50 states plus the District of Columbia, the Commonwealth of the Northern Mariana Islands, the U.S. Virgin Islands, Guam, American Samoa, the Commonwealth of Puerto Rico, or any federally recognized Indian tribe or authorized tribal organization, or an Alaskan native village, Alaska Regional Native Corporation, or the Alaska Village Initiatives. Nonaffiliated EMS organizations are defined by 15 U.S.C. 2229(a)(7).

• Any State Fire Training Academy operating in any of the 50 states plus the District of Columbia, the Commonwealth of the Northern Mariana Islands, the U.S. Virgin Islands, Guam, American Samoa, and the Commonwealth of Puerto Rico.

Ineligibility

• FEMA considers two or more separate fire departments or nonaffiliated EMS organizations sharing facilities as being one organization. If two or more organizations share facilities, and each organization submits an application in the same program area, FEMA may deem all of those program area applications to be ineligible to avoid any duplication of benefits.

• Fire-based EMS organizations are not eligible to apply as nonaffiliated EMS organizations. Fire-based EMS training and equipment must be requested by a fire department under the AFG component program Operations and Safety.

Statutory Limits to Funding

Congress has enacted statutory limits to the amount of funding that a grantee may receive from the AFG Program in any single fiscal year (15 U.S.C. 2229(c)(2)) based on the population served. Awards will be limited based on the size of the population protected by the applicant, as indicated below. Notwithstanding the annual limits stated below, the FEMA Administrator may not award a grant in an amount that exceeds one percent of the available grants funds in such fiscal year, except where it is determined that such recipient has an extraordinary need for a grant in an amount that exceeds the one percent aggregate limit.

• In the case of a recipient that serves a jurisdiction with 100,000 people or fewer, the amount of available grant funds awarded to such recipient shall not exceed $1 million in any fiscal year.

• In the case of a recipient that serves a jurisdiction with more than 100,000 people but not more than 500,000 people, the amount of available grant funds awarded to such recipient shall not exceed $2 million in any fiscal year.

• In the case of a recipient that serves a jurisdiction with more than 500,000 but not more than 1 million people, the amount of available grant funds awarded to such recipient shall not exceed $3 million in any fiscal year.

• In the case of a recipient that serves a jurisdiction with more than 1 million people but not more than 2,500,000 people, the amount of available grant funds awarded to such recipient shall not exceed $6 million for any fiscal year.

• In the case of a recipient that serves a jurisdiction with more than 2,500,000 people, the amount of available grant funds awarded to such recipient shall not exceed $9 million in any fiscal year.

• FEMA may not waive the caps on the maximum amount of available grant funds awarded based upon population.

The cumulative total of the federal share of awards in Operations and Safety and Vehicle Acquisition will be considered when assessing award amounts and any limitations thereto. Applicants may request funding up to the statutory limit on each of their applications.

For example, an applicant that serves a population of less than 500,000 people may request up to $2 million on their Operations and Safety Application and up to $2 million on their Vehicle Acquisition Request. However, should both grants be awarded, the applicant would have to choose which award to accept if the cumulative value of both applications exceeds the statutory limits.

Applications for Joint/Regional Projects will not be included in the host organization's funding limitations detailed above. However, Joint/Regional applicants will be subject to their own limitation based on the total population the joint/regional project will serve. For example, a Joint/Regional Project serving a cumulative population greater than 100,000 but less than 500,000 people will be limited to $2 million.

Cost Sharing and Maintenance of Effort

Grantees must share in the costs of the projects funded under this grant program as required by 15 U.S.C. 2229(k)(1) and in accordance with 44 CFR 13.24 and 2 CFR 215.23, but they are not required to have the cost-share at the time of application nor at the time of award. However, before a grant is awarded, FEMA will contact potential awardees to determine whether the grantee has the funding in hand or if the grantee has a viable plan to obtain the funding necessary to fulfill the cost-sharing requirement.

In general, an eligible applicant seeking a grant shall agree to make available non-Federal funds equal to not less than 15 percent of the grant awarded. However, the cost share will vary as follows based on the size of the population served by the organization:

• Applicants serving areas with populations above 20,000 but not more than 1 million shall agree to make available non-Federal funds equal to not less than 10 percent of the total project cost.

• Applicants that serve populations of 20,000 or less must match the Federal grant funds with an amount of non-Federal funds equal to 5 percent of the total project cost.

The cost share of State fire training academies and joint/regional projects will be based on the entire region, not the population of the host organization.

On a case by case basis, the AFG may allow grantees that already own assets (equipment or vehicles) to use the trade-in allowance/credit value of those assets as “cash” for the purpose of meeting the cost-share obligation of their AFG award. In-kind cost-share matches are not allowed.

Grantees under this grant program must also agree to a maintenance of effort requirement as required by 15 U.S.C. 2229(k)(3) (referred to as a “maintenance of expenditure” requirement in that statute). A grantee shall agree to maintain during the term of the grant the applicant's aggregate expenditures relating to the activities allowable under the Funding Opportunity Announcement at not less than 80 percent (80%) of the average amount of such expenditures in the two (2) fiscal years preceding the fiscal year in which the grant amounts are received.

In cases of demonstrated economic hardship, and on the application of the grantee, the Administrator of FEMA may waive or reduce a grantee's cost share requirement or maintenance of expenditure requirement. The Administrator of FEMA shall establish and publish guidelines for determining what constitutes economic hardship.

Prior to the start of the FY 2013 AFG application period, DHS will conduct applicant workshops and/or Internet webinars to inform potential applicants about the AFG Program. In addition, DHS will provide applicants with online information at the AFG Web site (www.fema.gov/firegrants) to help them prepare quality grant applications. The AFG also will staff a Help Desk throughout the application period to assist applicants with navigation through the automated application as well as assistance with any questions they have. Applicants can reach the AFG Help Desk through a toll-free telephone number (1-866-274-0960) or electronic mail (firegrants@dhs.gov).

Application Process

Organizations may submit one application per application period in each of the three AFG Program areas, e.g., one application for Operations and Safety, one for Vehicle Acquisition, and/or a separate application to be a Joint/Regional Project host. If an organization submits more than one application for any single AFG Program area, e.g., two applications for Operations and Safety, two for Vehicles, etc.; either intentionally or unintentionally, FEMA will deem all applications submitted by that organization for the Program to be ineligible for funding.

Applicants will be advised to access the application electronically at https://portal.fema.gov. The application also will be accessible from the U.S. Fire Administration's Web site (http://www.usfa.fema.gov) and the grants.gov Web site (http://www.grants.gov). New applicants will be required to register and establish a username and password for secure access to their application. Applicants that applied to any previous AFG funding opportunities will be required to use their previously established usernames and passwords.

In completing the application, applicants will be asked to provide relevant information on their organization's characteristics, call volume, and existing capabilities. Applicants will be asked to answer questions about their grant request that reflect the AFG funding priorities, which are described below. In addition, each applicant will have to complete four separate narratives for each project or grant activity requested. These narratives will address statutory competitive factors: Project description and budget, cost benefit, financial need, extent to which the grant will benefit the organization's daily operations, and additional information. The electronic application process will permit the applicant to enter and save the application data. The system does not permit the submission of incomplete applications. Except for the narrative textboxes, the application will use a “point-and-click” selection process or require the entry of data (e.g., name and address, call volume numbers, etc.) Applicants will be encouraged to read the “AFG Funding Opportunity Announcement” for more details.

National Fire Protection Association (NFPA) Standards

Courtesy of the NFPA (and at no cost during the AFG application period), relevant standards that should be referenced in your applications may be viewed at http://www.nfpa.org/nfpaafg2013.

Criteria Development Process

Each year, DHS convenes a panel of fire service professionals, or subject matter experts (SMEs) to develop the funding priorities and other implementation criteria for AFG. The Criteria Development Panel is comprised of representatives from nine major fire service organizations, who are charged with making recommendations to FEMA regarding the creation of new funding priorities and the modification of existing funding priorities as well as developing criteria for awarding grants. The nine major fire service organizations represented on the panel are:

• Congressional Fire Services Institute (CFSI)

• International Association of Arson Investigators (IAAI)

• International Association of Fire Chiefs (IAFC)

• International Association of Fire Fighters (IAFF)

• International Society of Fire Service Instructors (ISFSI)

• National Association of State Fire Marshals (NASFM)

• National Fire Protection Association (NFPA)

• National Volunteer Fire Council (NVFC)

• North American Fire Training Directors (NAFTD)

The FY 2013 criteria development panel meeting occurred December 13-14, 2012. The content of the “FY 2013 AFG Funding Opportunity Announcement” reflects the implementation of the Criteria Development Panel's recommendations with respect to the priorities, direction, and criteria for awards. All of the funding priorities for the FY 2013 AFG are designed to address the following:

• Protecting the public

• First responder safety

• Enhancing national capabilities

• Risk

• Interoperability

Changes for FY 2013

Application Prescores. Each application receives an electronic prescore that measures how closely the request aligns with the stated funding priorities. The Criteria Development Panel recommended adjusting some of the weighted scores to more closely reflect changes to national standards, firefighter health and safety issues, and other industry trends. These changes are minor in nature and do not constitute a material change to the application.

• FY 2013 AFG Funding Opportunity Announcement

Operations and Safety Program

(1) New Eligible Applicant—State Fire Training Academies: In accordance with the AFG statutory reauthorization at 15 U.S.C. 2229, and in addition to the Criteria Development Group's recommendation, “State fire training academies” are now eligible to apply for AFG funding. State fire training academies (SFTA) are eligible to apply only for equipment, personal protective equipment, and vehicles. Furthermore, eligible SFTA applicants must act as the primary grantee; no subgrantee arrangements are permitted under the terms and conditions of any AFG Program. Regardless of a State's mechanism(s) for funding their SFTAs, no AFG award made to a SFTA can be reduced, revised, redirected, or withheld by the SFTA's State or any authorized entity of the State. The Criteria Development Panel recommended that SFTA grantees receive no more than $500,000 per award.

(2) Changes to Application Questions: Some department characteristics and demographic questions were added or modified to capture more pertinent data and allow for more informed reviews of applications. The purpose is to help ensure that funds are awarded to the departments with the greatest need of support.

(3) Availability of Micro Grants (MG): In FY 2013, applicants will have the option of requesting a micro grant, which is an award for which the federal share does not exceed $25,000. Only fire departments and nonaffiliated EMS organizations are eligible to choose MGs, and the only activities that are eligible MGs are Training, Equipment, PPE, Wellness and Fitness, and Modification to Facilities. MGs are not an additional funding opportunity, but MGs applicants may receive additional consideration for an award. The purpose of the MGs is to streamline the scoring and review of the MG applications and to facilitate FEMA's ability to quickly award MG funding.

(4) New Terms for EMS Providers and New Category: FEMA is incorporating into the FY 2013 AFG application the changes made to the titles of EMS providers by the United States Department of Transportation under the “National EMS Scope of Practice Model.” These changes are shown below:

“First Responder” is changed to “Emergency Medical Responder.”

“EMT-B” is changed to EMT.

“EMT-I” is changed to “EMT Advanced.”

“EMT-P” is changed to “Paramedic.”

New category of EMS provider—Community Paramedics (EMT-Ps or paramedics with Primary Care certification).

(5) Permanent or Fixed Trailers Now Eligible: Mobile trailers that are used to train firefighters have long been an eligible activity. The Criteria Development Panel recommended that permanent or fixed trailers used for training also be eligible for funding provided they can be installed without any construction costs.

(6) Face pieces for Firefighter Self-Contained Breathing Apparatus (SCBA): The replacement of firefighter face pieces for SCBAs was made a high priority for funding. This change coincides with the introduction and implementation of the 2013 NFPA standard for Self-Contained Breathing Apparatus.

(7) PPE Eligibility. Several minor changes were recommended to ensure that fire departments and EMS organizations can more easily obtain PPE grants for members who do not have PPE currently, or have PPE that does not fit properly, both of which create safety hazards.

(8) Firefighter personal escape systems: These are now eligible for funding under the PPE activity.

(9) Metro Department Definition: For FY 2013, a metro fire department is defined as one that has a minimum staffing of 350 paid/career members. NOTE: AFG collects this information for statistical purposes only; the status of metro department is not a factor in scoring or funding.

Vehicle Acquisition Program

(1) In accordance with the AFG statutory reauthorization, and in addition to the Criteria Development Group's recommendation, “State fire training academies” are eligible to apply for AFG vehicle funding.

(2) Of the total AFG funds available for vehicle awards, 10 percent will be allocated to funding ambulances.

(3) New Standard for Ambulances: Ambulances requested must meet NFPA 1917: Standard for Automotive Ambulances, Edition 2013.

(4) Distribution of Awards by Community. To further ensure the equitable distribution of vehicle grants funds between community types, the Criteria Development Panel recommended that funds be awarded evenly among rural, suburban, and urban community types, to the extend this is possible.

Joint/Regional Grant Program

(1) The title of the grant program was changed from “Regional Grant Program” to “Joint/Regional Grant Program.”

(2) Both fire department applicants and nonaffiliated EMS applicants are eligible to apply for vehicle funding and all vehicle acquisition activities under the Joint/Regional Grant Program.

System for Award Management (SAM)

In 2012, SAM.gov replaced the Central Contractor Registry (CCR). Per 2 CFR 25.200, all grant applicants and awardees are required to register in SAM.gov, which is available free of charge. They must maintain validated information in SAM that is consistent with the data provided in their AFG grant application and in the DUNS database. AFG will not accept any application, process any awards, or consider any payment or amendment requests, or consider any amendment until the applicant or grantee has complied with the requirements to provide a valid DUNS number and an active SAM registration with current information. The banking information, employer identification number (EIN), organization/entity name, address, and DUNS number provided in the application must match the information that provided in SAM.gov.

Excess Funds

The amount of excess grant funds (funds remaining after all grant-funded items have been purchased) that grantees may spend without obtaining AFG program preapproval was raised to $10,000.

Revised Environmental and Historical Review Screening Form

FEMA's Environmental and Historic Preservation (EHP) Screening Form was revised and made available for download from the AFG application portal. AFG-funded projects that involve the installation of equipment (including but not limited to antennas, sprinklers, alarm systems, generators, vehicle exhaust systems, air improvement systems, permanent mounted signs, or renovations to facilities) are subject to FEMA's EHP screening process.

National Fire Incident Reporting System (NFIRS)

Although NFIRS reporting is strongly encouraged, NFIRS reporting is not a requirement to apply for or be awarded a grant within any AFG component program. However, any fire-based organization(s) that receives an AFG award must be reporting to NFIRS prior to the beginning of their period of performance. Any grantee that stops reporting to NFIRS during their grant's period of performance is subject to having their award(s) modified or withdrawn.

Changes to Criteria Development Panel Recommendations

DHS must explain any differences between the published guidelines and the recommendations made by the criteria development panel and publish this information in the Federal Register prior to making any grants under the Program. For FY 2013, DHS accepted and is implementing all of the Criteria Development Panel's recommendations.

Application Review Process and Considerations

The governing statute requires that each year DHS publish in the Federal Register a description of the grant application process and the criteria for grant awards. This information is provided below.

DHS will review and evaluate all AFG applications submitted using the funding priorities and evaluation criteria described in this document, which are based on recommendations from the AFG Criteria Development Panel. FEMA will rank all submitted applications based on how well they match the funding priorities for the type of community served. Answers to the application's activity-specific questions provide information used to determine each application's ranking relative to the stated priorities.

Preliminary Review Process

DHS will evaluate all applications received first through an automated preliminary review process to determine which projects best address the AFG Program's announced funding priorities. The automated preliminary review will evaluate and score the applicants' answers to the activity-specific questions in terms of the funding priorities and the evaluation criteria described in this document.

The projects that best meet the AFG Program priorities as determined by the preliminary review will be deemed to be in the “competitive range” and will be forwarded for the second level of application review, which is the peer review process. Once the competitive range is established, DHS will review the list of applicants that were not included in the competitive range to determine if any are responsible for protecting DHS-specified critical infrastructure or key resources.

Peer Review Process

All projects that are deemed to be in the competitive range after the preliminary review process will be subjected to a second level of review by a technical evaluation panels (TEP) of peer reviewers. The TEPS are made up of individuals from the fire service, including, but not limited to, firefighters, fire marshals, and fire training instructors.

A panel of at least three peer reviewers will evaluate each project in the competitive range using the project narratives, along with answers to the general questions and the activity-specific questions. Panelists will provide a subjective but qualitative judgment on the merits of each request. They will review and score projects based on the following evaluation criteria:

• The proposed project description and budget

• Financial need

• Cost benefits

• The extent to which the grant would enhance daily operations

• How the grant will positively impact the regional ability to protect life and property

• For joint/regional host applications, the list of all the participating eligible and ineligible benefitting organizations.

• Evaluation by the peer reviewers relative to the critical infrastructure the applicant protects within its first-due area of response

• Critical infrastructure includes systems or key resources that, if attacked, would result in catastrophic loss of life or catastrophic economic loss. Examples include the following:

○ Public water

○ Power systems

○ Major business centers

○ Chemical facilities

○ Nuclear power plants

○ Major rail and highway bridges

○ Petroleum and/or natural gas transmission pipelines

○ Storage facilities (such as chemicals)

○ Telecommunications facilities

○ Facilities that support large public gatherings, such as sporting events or concerts

• Additional information provided by the applicant

Each project will be judged on its own merits and not compared to other projects. As part of the cost-benefit review, the panelists will consider all expenses budgeted, including the individual costs of the items requested as well as the extraneous costs, such as warranties or maintenance costs, administrative costs, and/or indirect costs. Panelists may object to costs that are requested but not fully explained in the application.

The panelists will evaluate and score each project individually and then discuss the merits and shortcomings of each application in an effort to reconcile any major discrepancies. However, a consensus among reviewers on the scores is not required. The project's total peer review score will be an average of the individual peer reviewers' scores. The projects receiving the highest scores during the peer review process will be deemed in the fundable range.

The total peer review score will be combined with the score earned from the preliminary review, with each score representing 50 percent of the total project score. Projects will be ranked according to the total project scores with DHS considering the highest-scoring projects for awards.

Technical Review Process

Projects receiving the highest scores then will undergo a technical review by a subject matter specialist to assess the technical feasibility of the project and a programmatic review to assess eligibility and other factors.

DHS generally makes funding decisions using rank order resulting from the panel evaluation. However, DHS may deviate from rank order and make funding decisions based on the type of department (career, combination, or volunteer) and/or the size and character of the community the applicant serves (urban, suburban, or rural) to the extent it is required to satisfy statutory provisions.

After the completion of the technical reviews, DHS will select a sufficient number of awardees from this application period to obligate all of the available grant funding. It will evaluate and act on applications within 90 days following the close of the application period. Award announcements will be made on a rolling basis until all available grant funds have been committed. Awards will not be made in any specified order, i.e., awards will not be made by State, program, etc. DHS will notify unsuccessful applicants as soon as it is feasible.

State Strategy and Communications Technical Review

Each state will provide a SMS to the AFG Program Office to conduct a Technical Review of Peer reviewed applications from the state's perspective. This state review will focus on requests for CBRNE requested equipment and training. This state review will focus on requests for communications systems equipment and related training that should conform to the state's Statewide Communication Interoperability Plan (SCIP).

Funding Priorities

The funding priorities described in this Notice have been recommended by a panel of representatives from the Nation's fire service leadership and have been accepted by DHS for the purposes of implementing the AFG. These rating criteria provide an understanding of the AFG Program's priorities and the expected cost-effectiveness of any proposed project(s). The activities listed below are in no particular order of priority.

(1) Operations and Safety Funding Priorities

(i) Training Activities

• Priorities for Fire Departments and Joint/Regional Hosts. Due to inherent differences among urban, suburban, and rural firefighting needs, AFG has different priorities for Training for fire departments and joint/regional applicants that serve different types of communities, e.g., urban, suburban, or rural. These are described below and in the “FY 2013 AFG Funding Opportunity Announcement.”

Fire Department and Joint/Regional Training Priorities
Training | NFPA No. | Urban | Suburban | Rural
NFPA 1001 (firefighter I, II) | 1001 | H | H | H
NFPA (instructor) | 1041 | H | H | H
NFPA 472 (Hazmat operations) | 472 | H | H | H
NFPA 1581 (infection control) | 1581 | H | H | H
Confined space (awareness) | 1670 | H | H | H
Wildland firefighting (basic) | 1143 | H | H | H
Wildland firefighting certification (red card) | 1051/1143 | H | H | H
Rapid intervention training | 1407 | H | H | H
NFPA (officer) | 1021 | H | H | H
Emergency medical responder | 1710 | H | H | H
Firefighter safety and survival | 1407 | H | H | H
Safety officer | 1521 | H | H | H
Driver/operator | 1002 | H | H | H
Fire prevention | 1/909/913/1035 | H | H | H
Fire inspector | 1031 | H | H | H
Fire investigator | 1033 | H | H | H
Fire educator | 1041 | H | H | H
NIMS/ICS | 1561 | H | H | H
Firefighter physical ability program | 1583 | H | H | H
Emergency scene rehab | 1584 | H | H | H
Critical Incident debriefing | 1500/1583 | H | H | H
Any training to a National/State or NFPA standards |  | H | H | H
Compliance with federal/state-mandated program |  | H | H | H
NFPA (rescue technician) | 1006/1670 | H | H | H
Paramedic |  | H | H | H
Emergency Medical Technician (EMT) |  | H | H | H
Vehicle rescue | 1670 | H | H | H
Other officer | 1021 | H | H | M
NFPA (ARFF) | 1003/402/403/408/409/410/412/414/415 | H | H | M
Weapons of Mass Destruction (awareness, other/specialized) | 472 | H | H | L
Telecommunications dispatcher (if employed by the fire department) | 1061 | H | H | L
Mass casualty |  | H | H | L
Weapons of Mass Destruction (operations) | 472 | H | H | L
Weapons of Mass Destruction (technician) | 472 | H | H | L
Hazmat (technician) | 472 | H | H | L
Training to address a local risk |  | M | M | M
Maritime Firefighting |  | M | M | M
Instructor-led training that does not lead to certification |  | L | L | L
Self-taught courses |  | L | L | L
Training not elevated to a national or state standard |  | L | L | L
Training that addresses a specific operational capability |  | L | L | L

Additional Considerations. Factors such as whether multiple departments will be trained, instructor-led vs. media-led training, and the number of firefighters to be trained. Large departments with a high number of active firefighters also will receive additional consideration.

• Priorities for Nonaffiliated EMS Organizations. Since training is a prerequisite to the effective use of EMS equipment, FEMA has determined that it is more cost-effective to enhance or expand an existing EMS organization by providing training or equipment than it is to create a new service. Therefore, communities attempting to initiate EMS services will receive the lowest competitive rating.

AFG provides training grants to meet the educational and performance requirements of EMS personnel. Training should align with the U.S. National Highway Traffic Safety Administration (NHTSA), which designs and specifies a National Standard Curriculum for EMT training and the National Registry of Emergency Medical Technicians (NREMT), a private, central certifying entity whose primary purpose is to maintain a national standard (NREMT also provides certification information for paramedics who relocate to another state).

Higher priorities for training are shown below. They are based on the time and cost of upgrading a nonaffiliated EMS organization's response level.

(1) Organizations seeking to elevate the response level from EMT Advanced (EMT-I) to Paramedic (EMT-P)l

(2) Organizations seeking to elevate the response level from EMT (EMT-B) to EMT Advanced (EMT-I); and

(3) Organizations seeking to train a high percentage of the active EMR's will receive additional consideration when applying under the Training Activity.

Lower training priorities due to the time and cost of upgrading an organization's response level are

(1) Organizations seeking to upgrade from Emergency Medical Responder (First Responder) to EMT (EMT-B); and

(2) Organizations seeking to upgrade from EMT (EMT-B) to Paramedic (EMT-P).

(3) The lowest priority for EMS training is to fund Emergency Medical Responder (First Responders).

(4) Organizations seeking training in rescue or Hazmat operations will receive lower consideration than organizations seeking training for medical services.

(ii.) Equipment Acquisition

• Fire Departments, Joint/Regional Hosts, SFTAs, and Nonaffiliated EMS Organizations. Grants are available for equipment to enhance the safety and effectiveness of firefighting, rescue, and fire-based and nonaffiliated EMS emergency medical functions. Equipment requested must meet all mandatory requirements, as well as any voluntary consensus standards or national and/or state or DHS-Adopted Standards. The equipment requested should improve the health and safety of firefighters and protect the public.

Priority Equipment Types

(1) Priority 1—Basic, communications, EMS/rescue. The only eligible AFG acquisition activity for interoperable communications equipment is the purchase of P25-compliant equipment. Grantees purchasing P25 equipment must obtain documented evidence from the manufacturer that the equipment has been tested and passed the entire applicable, published, normative P25 Compliance assessment test procedures for performance, conformance, and equipment requested, particularly decontamination and interoperability.

(2) Priority 2—Hazmat, Specialized. Hazmat equipment will only be funded to the current level of an organization's operational capabilities.

(3) Priority 3—Investigations, CBRNE.

Additional Considerations for Equipment: Fire Departments, Joint/Regional Hosts, and SFTAs. Additional consideration may be given to equipment requests based on the following factors:

Equipment that has a direct effect on firefighters' health and safety

Age of equipment that will be considered for replacement has changed from 10 to 15 years

Equipment that benefits other jurisdictions

Equipment that brings the department into compliance with a national recommended standard, (e.g., NFPA) or statutory compliance (e.g., Occupational Safety & Health Administration (OSHA)) will receive the highest additional consideration.

Equipment Request Priorities—Fire Departments, Joint/Regional Hosts, and SFTAs
Priority | Reason for request
H | First-time purchase (never owned by applicant) to support existing mission and/or replace obsolete, broken/inoperable equipment.
M | Increased capabilities within the department's existing mission or to meet a new risk.
L | Requesting items for a new mission to meet an existing risk and/or request additional supplies or reserve equipment.

• Funding Priorities for Nonaffiliated EMS Organizations. Nonaffiliated EMS organizations are eligible for Equipment Activities that are not specific or unique to structural/proximity firefighting, such as but not limited to P25 radios or traffic signal preemption systems. All of the factors in the table below are considerations in prescoring and panelist review.

Additional Considerations for Equipment—Nonaffiliated EMS. All of the following are considerations in prescoring and panelist review of equipment requests from nonaffiliated EMS organizations.

Equipment Request Priorities—Nonaffiliated EMS Organizations
Priority | Reason for request
H | Departments requesting to upgrade service from Basic Life Support (BLS) to Advanced Life Support (ALS).
M | Departments requesting to expand current service.
L | Departments requesting new service or replacing used or obsolete equipment.

Priorities for EMS Levels of Response
Priority | EMS level
H | Advanced Life Support (ALS).
H | Basic Life Support (BLS).
L | Hazmat operations/technicians.
L | Rescue operations/technicians.

(iii.) Personal Protective Equipment (PPE) Acquisition

AFG Funds are primarily used to acquire OSHA-required and NFPA-compliant PPE for firefighting and EMS personnel of fire departments, joint/regional hosts, nonaffiliated EMS organizations, and State fire training academies. Equipment requested should have the goal of increasing firefighter safety. When requesting to replace old or obsolete equipment, applicants will be asked to provide the age of the equipment being replaced. In order for SCBA/PPE to be considered obsolete, it must be a minimum of two NFPA cycles or 10 years of age or older.

Information on the relevant NFPA standards can be obtained from the organization's Web site at www.NFPA.org/nfpaafg.2013. If requesting training for any items in this section, please list it in the Other section under Additional Funding for each item for which training is needed.

• Funding Priorities for Fire Departments, Joint/Regional Hosts, and SFTAs. The highest priorities for funding will be requests from departments to buy new PPE for the first time, to replace or update obsolete PPE to the current standard, and to replace torn, tattered, or damaged PPE. (Obsolete is defined as any PPE that is 10 years or older or is outdated by two NFPA cycles.) The medium priority for funding will be requests to replace contaminated PPE or to address a new risk. A low priority for funding will be requests to replace new or used PPE, replace worn but usable PPE that is not compliant to the current edition of the NFPA standard, to meet a new mission, or to increase current inventory. The table below shows the priorities for PPE requests that will be considered during prescoring and peer panelist reviews.

Priorities for PPE Requests From Fire Departments, Joint/Regional Hosts, and SFTA
Priority | Reason for PPE request
H | • Departments requesting new PPE for the first time.
| • Replacing torn, damaged, or obsolete PPE to the current standard.
| • Personal Safety/Rescue Bailout Systems.
| • Members without gear (Member can't be outfitted from current inventory).
M | • Requesting PPE for a new risk.
L | • Worn but usable PPE that is not compliant to the current edition of the NFPA standard, and/or to handle a new mission or increase current inventory.
| • Used PPE.
| • Replacing New PPE.
| • New Mission.
| • Increase Supplies.

• Funding Priorities for Nonaffiliated EMS Organizations. Nonaffiliated EMS organizations are eligible for PPE activities that are not specific or unique to structural/proximity firefighting, such, as but not limited to, “NFPA1999: Standard on Protective Clothing for Emergency Medical Operations,” or “NFPA 1981: Standard on Open-Circuit Self-Contained Breathing Apparatus (SCBA) for Emergency Services.”

Priorities for PPE Requests From Nonaffiliated EMS Organizations
[Training on Use of Requested Equipment: Applicants must indicate grant-purchased equipment will be operated by sufficiently trained staff. Failure to meet this requirement will result in ineligibility for funding]
Priority | Reason for PPE request
H | • Departments requesting new PPE for the first time.
| • Replacing torn, damaged, or obsolete PPE to the current standard.
| • Personal Safety/Rescue Bailout Systems.
| • Members without gear (Member can't be outfitted from current inventory).
M | • Requesting PPE for a new risk.
L | • Worn but usable PPE that is not compliant to the current edition of the NFPA standard and/or to handle a new mission, or increase current inventory.
| • Replace new PPE.
| • New mission.
| • Increase supply.

• Self-contained Breathing Apparatus (SCBA) Priorities. Awards for all SCBAs will be based on number of seated riding positions in the department's or organization's vehicle fleet and the age of existing SCBAs, limited to one spare cylinder (unless justified otherwise in the Request Details narrative for the PPE activity). New SCBAs must have automatic-on or integrated Personal Alert Safety System (PASS) devices and be CBRNE-compliant to the current edition of the NFPA 1981 standard. Applicants will be required to provide the age of the PPE being replaced. All requests must be justified in the Request Details narrative for the PPE activity.

Self-Contained Breathing Apparatus (SCBA) Priorities for Requests From Fire Departments, Joint/Regional Hosts, SFTAs, and Nonaffiliated EMS Organizations
Priority | Items requested
H | Replacing SCBA compliant with NFPA 1981, pre-2002 Edition.
M | Replacing SCBA compliant with NFPA 1981, 2007 Edition (must be justified in the PPE Narrative).
L | Replacing SCBA compliant with NFPA 1981, 2012 Edition (must be justified in the PPE Narrative).

Additional Considerations for PPE Requests: Fire Departments, Joint/Regional Hosts/SFTAs

• Obsolete is defined as any SCBA/PPE that is 10 years or older or two NFPA cycles.

• Applicants with the oldest PPE and/or trying to bring the department into 100 percent NFPA compliance, or the number of firefighters who will have compliant gear.

Additional Considerations for PPE Requests: Nonaffiliated EMS Organizations

• Percent of firefighters/EMS personnel served

• Age of equipment

• Obsolete equipment—defined as any SCBA/PPE that is 10 years or older, or two NFPA cycles.

(iv.) Wellness and Fitness Activities

Only fire departments and nonaffiliated EMS organizations are eligible to apply for grants for Wellness and Fitness Activities. Wellness and Fitness Activities are intended to strengthen first responders so their mental, physical, and emotional capabilities are resilient to withstand the demands of emergency services response. To be eligible for FY 2013 AFG funding in this activity, fire departments and nonaffiliated EMS organizations must offer, or plan to offer, all four of the following:

(1) Periodic health screenings

(2) Entry physical examinations

(3) Immunizations

(4) Behavioral health programs

• Funding Priorities. Applicants must have all four Priority 1 Activities already in place (or request funding for any missing Priority 1 Activities), or they will be unable to request funding for any Priority 2 Activities.

Priority 1: Below are the four activities required to offer a complete Wellness and Fitness Program:

(1) Initial medical exams

(2) Job-related immunization

(3) Annual medical and fitness evaluation

(4) Behavioral health

Priority 2: You may only apply for Priority 2 items if you offer or are requesting a combination of the four activities required under Priority 1. Departments that have some of the Priority 1 programs in place must apply for funds to implement the missing Priority 1 programs before applying for funds for any additional program or equipment. In addition, funded medical exams must meet current NFPA 1582, as required by DHS Standards.

• Simultaneous requests for Priority 1 and Priority 2 activities will receive a lower funding consideration than requests that complete the bundle of the four (4) Priority 1 Activities.

• Candidate physical ability evaluation

• Formal fitness and injury prevention program/equipment

• Injury/illness rehabilitation

• IAFF or IAFC peer fitness trainer program(s)

(v.) Modifications to Facilities

Only fire departments and nonaffiliated EMS organizations are eligible to apply for Modifications to Facilities grants. FY 2013 AFG Grants may be used to modify and retrofit existing fire stations and other facilities or structures built before 2003. Eligible projects under this activity must have a direct effect on the health and safety of firefighters. New fire station construction is not eligible for funding. To be eligible, the modification must not change the structure footprint or profile. If requesting multiple items in this activity, total funding for all project and activities cannot exceed $100,000 per fire station.

FEMA is legally required to consider the potential impacts of all grant-funded projects on environmental resources and historic properties through an environmental and historic preservation (EHP) review. Any project with the potential to impact natural resources or historic properties cannot be initiated until FEMA has completed the required FEMA EHP review. Grantees that implement projects before receiving EHP approval from FEMA risk having grant funds deobligated. Modification projects that must undergo EHP reviews include but are not limited to the installation of equipment; ground-disturbing activities, such as building a concrete pad for a station generator; communications tower installations, or the modification or renovation of existing buildings and structures. Any project not specifically excluded from a FEMA EHP review must undergo such a review, per the Grant Programs Directorate's (GPD) Programmatic Environmental Assessment (PEA). For more information, see GPD Information Bulletin No. 345. Grantees must comply with all applicable EHP laws, regulations, and Executive Orders (EOs) to draw down their FY 2013 AFG funds.

• Funding Priorities. Highest priority for funding will be requests to install modifications such as sole/at source capture exhaust systems (SSCES), sprinkler systems, or smoke/fire alarm notification systems in stations, including maritime and air operations facilities, that are occupied 24/7 and offer sleeping quarters. An SSCES is a system where exhaust gases from a vehicle are captured via a conduit that attaches to/over the end of the vehicle's exhaust system at the tailpipe. The captured exhaust gases are expelled through the attached conduit via mechanical/pneumatic means to the exterior of the building. Medium priority will be given to requests for air quality systems and/or emergency generators from departments that may or may not offer sleeping quarters. Low priority will be given to requests to modify facilities that are not occupied 24/7 and do not offer sleeping quarters, and for training facilities.

All of the following information is considered during prescoring and panelist review:

Modifications to Facilities Priorities
Priority | Requested items
H | Sole/at source capture exhaust systems (SSCES), sprinkler systems, or smoke/fire alarm notification systems requested by stations with sleeping quarters, including maritime/air operations facilities, that are occupied 24/7.
M | Air quality systems and/or emergency generators, requested by organizations with or without sleeping quarters.
L | Items from the High or Medium priority list (above) requested by organizations whose facilities are not occupied 24/7 and do not have sleeping quarters; also training facilities and air quality systems (AQS).

• Priorities by Level of Facility Occupancy:

H Full-time (24/7)

M Daily (part-time or selected coverage; not on a regular basis)

L Occasionally (no schedule coverage; volunteers respond to the station.)

Additional Considerations will be given for the age of the building, with older facilities receiving higher priority. If requesting multiple items in this activity, funding cannot exceed a maximum of $100,000 per station.

(2) Joint/Regional Host Organizations. Only fire departments and nonaffiliated EMS organizations are eligible to apply for Joint/Regional Host grants. The “host” organization submits the Joint/Regional application in its own name and on behalf of itself and at least one (1) other identified and AFG eligible participating entity. To apply for a regional project, the host organization must agree, if awarded, to be responsible for all aspects of the grant. This includes, but is not limited to, accountability for the assets and all reporting requirements in the regional application; the host will be required to describe the characteristics of the entire region that will be affected by the project(s). The host organization never functions as a pass-through organization and the participating partners are never subgrantees; the host only distributes grant-funded assets or contracted services and never distributes grant funds to participating organizations.

Joint/Regional Host applicants have restricted acquisition activities under Operations and Safety—they may only apply for Training, Equipment, and PPE. Beginning in FY2013, Joint/Regional applicants also may request all activities in the Vehicle Acquisition Program.

A Joint/Regional Applicant (the host organization) is not prevented from also submitting an application on behalf of their own organization for any of the AFG component programs (Vehicle Acquisition and/or Operations and Safety); however, duplicative requests are not allowed.

(3) Vehicles Acquisition Program

Not more than 25 percent of available grant funds may be used for the purchase of vehicles. Of the 25 percent set aside for vehicle funding, 10 percent will be dedicated to fund ambulances. The allocation of vehicle funding will be distributed as equally as possible among urban, suburban, and rural community applicants. The remaining Vehicle Acquisition funds will be awarded competitively without regard to community classification.

In FY 2013, fire departments, joint/regional hosts, nonaffiliated EMS organizations, and SFTAs may apply for more than one vehicle. Requests cannot exceed the financial cap based on population listed in the application. If a department submits multiple types of applications, and more than one of those requests are approved, the department will be held to the same financial cap based on the population listed in the application.

(i) Compliance With Standards

• New vehicles purchased with AFG Funds must be compliant with NFPA 1901 (“Standard for Automotive Fire Apparatus) or NFPA 1906 (Standard for Wildland Fire Apparatus”) for the year ordered/manufactured.

• Used fire apparatus must be compliant with NFPA 1901 or 1906 standards for the year the vehicle was manufactured.

• Ambulances must meet “NFPA 1917: Standard for Automotive Ambulances, Edition 2013.”

• Applicants must certify that unsafe vehicles will be permanently removed from service if awarded a grant. Acceptable uses of unsafe vehicles include farm, nursery, scrap metal, salvage, construction, etc.

• Refurbished vehicles must meet current NFPA 1912 standards.

• Funds may be used to refurbish a vehicle the department currently owns, but it will be eligible only if the vehicle was designed originally for firefighting. Refurbished vehicles must meet current NFPA 1912 standards.

When requesting more than one vehicle, the applicant will be asked to fill out a separate line item and answer all the questions including a separate Narrative for each vehicle. For example, if requesting to replace three ambulances, the applicant must fill out the age and vehicle identification number (VIN) of each vehicle being replaced. The same VIN cannot be used in each line item.

Applicants may request funding for a driver training program in the Vehicle Acquisition section but must add the request in the Additional Funding area in the Request Details section of the application. Driver training program(s) must be in place prior to the delivery of the vehicle. Applicants requesting vehicles that do not have drivers/operators trained to NFPA 1002 or equivalent, and are not planning to have a training program in place by the time the vehicle is delivered, will not receive a vehicle award.

(ii) Vehicle Funding Priorities

Inherent differences exist between urban, suburban, and rural firefighting conventions. For this reason, DHS has developed different priorities in Vehicle Acquisition for departments that serve different types of communities. The U.S. Census Bureau's urban—rural classifications are fundamentally a delineation of geographical areas. The FY2013 demographics for determining urban, suburban, and rural are shown in the table below.

Factors | Urban | Suburban | Rural
Population Size | >3,000/sq. mi. or 50,000+ population | 1,000-2,999/sq. mi. or 25,000-50,000 population | 0-999/sq. mi. or <25,000 population.
Water Supply | 75-100% hydrants (municipal water) | 50-74% hydrants | <50% hydrant.
Land Use | <25% for agriculture (based on zoning) industrial and commercial combined >50% | 25-49% used for agriculture (based on zoning) industrial and commercial combined >25-49% | 50% used for agriculture (based on zoning) industrial and commercial combined <25%.
Number of Stations per square mile | <3 sq. mi. per station | 3-9 sq. mi. per station | >10 sq. mi. per station.
Number of Occupancies | >100 | 11-100 | 0-10.

• Fire Department, Joint/Regional, and SFTA Priorities. Fire departments, joint/regional applicants, and SFTAs are eligible to request funding for the Vehicle Acquisition activities and funding priorities shown below, but they are not limited to these Vehicle activities. The funding priorities for firefighting vehicles—High (H), Medium (M), or Low (L)—are organized by community type. Within each separate funding priority, the vehicles listed have equal value. The chart below delineates the priorities for firefighting vehicles for each type of community.

Vehicle Acquisition Priorities—Fire Departments, Joint/Regional Hosts, and SFTAs
Priority | Urban communities | Suburban communities | Rural communities
H | • Pumper | • Pumper | • Pumper.
| • Ambulance | • Ambulance | • Ambulance.
| • Aerial | • Aerial | • Brush-Attack.
| • Rescue | • Tanker-Tender | • Tanker-Tender.
|  | • Rescue | • Aerial.
M | • Command | • Hazmat Command | • Command.
| • Hazmat | • Light/Air Unit | • Hazmat.
| • Light/Air Unit | • Brush-Attack | • Rescue.
| • Rehab | • Rehab Unit | • Light/Air Unit.
L | • Aircraft Rescue and Firefighting Vehicle (ARFF) | • ARFF | • Foam Truck.
| • Brush-Attack | • Foam Truck | • Highway Safety Unit.
| • Foam Truck | • Highway Safety Unit | • ARFF.
| • Fire Boat | • Fire Boat | • Rehab.
| • Tanker-Tender |  | • Fire Boat.
| • Highway Safety Unit

• Nonaffiliated EMS Organizations Vehicle Priorities. They are eligible for Vehicle Acquisition Activities that are not specific or unique to structural/proximity firefighting.

EMS Vehicle Acquisition Program Priorities
Priority | Vehicle type
H | Ambulances or transport units to support EMS functions (capped at $150,000).
M | Non-transport (vehicles that do not transport a patient).

(iii) Additional Considerations

• Automatic aid agreements, mutual aid agreements, or both

• Replacement of vehicles with open cab/jump seat configurations

• Age of the vehicle being replaced; older equipment receive higher consideration

• Age of the newest vehicle in the department's fleet that is similar to the vehicle to be replaced

• Average age of the fleet; older equipment within the same class

• Converted vehicles not designed or intended for use in the fire service

(4) Administrative Costs

Panelists will assess the administrative costs requested in each application and determine whether the request is reasonable and in the best interest of the Program.

Dated: October 24, 2013.
W. Craig Fugate,
Administrator, Federal Emergency Management Agency.

[FR Doc. 2013-26024 Filed 10-31-13; 8:45 am]

BILLING CODE 9111-78-P